DEPARTMENT OF COMMERCE

National Oceanic and Atmospheric Administration

RIN 0648-XA241

North Pacific Fishery Management Council; Public Meeting

AGENCY: National Marine Fisheries Service (NMFS), National Oceanic and Atmospheric Administration (NOAA), Commerce.

ACTION: Notice of a public meeting.

SUMMARY: The North Pacific Fishery Management Council's (Council) Observer Advisory Committee (OAC) will meet at the Council office in the Old Federal Building.

DATES: The meeting will be held on March 22, 2011, from 8:30 a.m. to 4:30 p.m.

ADDRESSES: The meeting will be held at the Old Federal Building, 605 W. 4th Avenue, #205 Anchorage, AK.

Council address: North Pacific Fishery Management Council, 605 W. 4th Ave., Suite 306, Anchorage, AK 99501-2252.

FOR FURTHER INFORMATION CONTACT: Nicole Kimball, Council staff; telephone: (907) 271-2809.

SUPPLEMENTARY INFORMATION: This meeting is to review progress on the observer restructuring regulatory package, as well as discuss development of a potential electronic monitoring system design for less than 60 foot vessels that are included under the observer restructuring action. Electronic monitoring may be a potential alternative to an observer for some small vessels that will be subject to sampling and monitoring requirements under the new observer restructuring regulations. Listen-only teleconference line will be provided: (907) 271-2896. The agenda is subject to change, and the latest version will be posted at http://www.alaskafisheries.noaa.gov/npfmc/

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: February 17, 2011.
Tracey L. Thompson,
Acting Director, Office of Sustainable Fisheries, National Marine Fisheries Service.

[FR Doc. 2011-3980 Filed 2-22-11; 8:45 am]

BILLING CODE 3510-22-P